NUCLEAR REGULATORY COMMISSION

[NRC-2009-0042]

Agency Information Collection Activities: Proposed Collection; Comment Request

AGENCY: U.S. Nuclear Regulatory Commission (NRC).

ACTION: Notice of pending NRC action to submit an information collection request to the Office of Management and Budget (OMB) and solicitation of public comment.

SUMMARY: The NRC invites public comment about our intention to request the OMB's approval for renewal of an existing information collection that is summarized below. We are required to publish this notice in the Federal Register under the provisions of the Paperwork Reduction Act of 1995 (44 U.S.C. Chapter 35).

1. The title of the information collection: NRC Form 748, “National Source Tracking Transaction Report.”

2. Current OMB approval number: 3150-0202.

3. How often the collection is required: Initially, at completion of a transaction, and at inventory reconciliation.

4. Who is required or asked to report: Licensees that manufacture, receive, transfer, disassemble, or dispose of nationally tracked sources.

5. The estimated number of annual respondents: 1,350 (350 NRC Licensees + 1,000 Agreement State Licensees).

6. An estimate of the total number of hours needed annually to complete the requirement or request: 412 hours.

7. Abstract: In 2006, The NRC amended its regulations to implement a National Source Tracking System for certain sealed sources. The amendments require licensees to report certain transactions involving nationally tracked sources to the National Source Tracking System. These transactions include manufacture, transfer, receipt, disassembly, or disposal of the nationally tracked source. This information collection is mandatory and is used to populate the National Source Tracking System.

Submit, by May 22, 2009, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice. Comments submitted in writing or in electronic form will be made available for public inspection. Because your comments will not be edited to remove any identifying or contact information, the NRC cautions you against including any information in your submission that you do not want to be publicly disclosed. Comments submitted should reference Docket No. NRC-2009-0042. You may submit your comments by any of the following methods. Electronic comments: Go to http://www.regulations.gov and search for Docket No. NRC-2009-0042. Mail comments to NRC Clearance Officer, Russell Nichols (T-5 F52), U.S. Nuclear Regulatory Commission, Washington, DC 20555-0001. Questions about the information collection requirements may be directed to the NRC Clearance Officer, Russell Nichols (T-5 F52), U.S. Nuclear Regulatory Commission, Washington, DC 20555-0001, by telephone at 301-415-6874, or by email to INFOCOLLECTS.Resource@NRC.GOV.

Dated at Rockville, Maryland, this 12th day of March 2009.
For the Nuclear Regulatory Commission.
Gregory Trussell,
NRC Clearance Officer, Office of Information Services.

[FR Doc. E9-6245 Filed 3-20-09; 8:45 am]

BILLING CODE 7590-01-P